DEPARTMENT OF THE INTERIOR

Bureau of Land Management

[WY-100-05-1310-DB]

Notice of Intent To Prepare a Supplemental Environmental Impact Statement (SEIS) for the Pinedale Anticline Oil and Gas and Exploration and Development Project, Sublette County, Wyoming, and Possible Amendment to the Pinedale Resource Management Plan

AGENCY: Bureau of Land Management, Interior.

ACTION: Notice of Intent (NOI) to conduct public scoping and prepare an SEIS to the Pinedale Anticline Oil and Gas, and Exploration and Development Project Final Environmental Impact Statement (FEIS) and Record of Decision (ROD), July 2000.

SUMMARY: Pursuant to section 102(2)(C) of the National Environmental Policy Act (NEPA) of 1969, as amended, the Bureau of Land Management (BLM), Pinedale Field Office, announces its intent to prepare an SEIS on the potential impacts of authorizing year round natural gas and condensate/oil development activities within the Pinedale Anticline Oil and Gas and Exploration and Development Project Area (PAPA). This supplemental environmental impact analysis may be used to amend the Pinedale Resource Management Plan (1988). The Pinedale Field Manager is the authorized officer for this project.

DATES: This notice initiates the public scoping process. The BLM can best use public input if comments and resources information are submitted within 30 days of the publication of this notice. To provide the public with an opportunity to review the proposal and project information, the BLM will host a meeting in Pinedale, Wyoming. The BLM will notify the public of the meeting date, time, and location at least 15 days prior to the event. Announcement will be made by news release to the media, individual letter mailings, and posting on the BLM Web site listed below if it is available.

ADDRESSES: Please send written comments or resource information to the Bureau of Land Management, Pinedale Field Office, Matt Anderson, Project Manager, 432 East Mill Street, P.O. Box 768, Pinedale, Wyoming 82941. Electronic mail may be sent to: WYMail_PAPA_YRA@blm.gov.

Your response is important and will be considered in the environmental analysis process. If you do respond, we will keep you informed of decisions resulting from this analysis. Please note that public comments and information submitted regarding this project including names, street addresses, and e-mail addresses of the respondents will be available for public review and disclosure at the above address during regular business hours (7:45 a.m. to 4:30 p.m.) Monday through Friday, except holidays. Individual respondents may request confidentiality. If you wish to withhold your name, address, or e-mail address from public review or from disclosure under the Freedom of Information Act, you must state this plainly at the beginning of your written comment. Such requests will be honored to the extent allowed by the law. All submissions from organizations or businesses, and from individuals identifying themselves as representatives or officials of organizations or businesses, will be made available for public inspection in their entirety.

FOR FURTHER INFORMATION CONTACT: Bureau of Land Management, Matt Anderson, Project Manager, 432 East Mill Street, P.O. Box 768, Pinedale, Wyoming 82941. Mr. Anderson may also be reached by telephone at (307) 367-5328, or by sending an electronic message to: matt_anderson@blm.gov.

SUPPLEMENTARY INFORMATION: The BLM completed an FEIS and issued a ROD for the PAPA in July 2000. The BLM conducted this analysis in response to oil and gas field development activities on the Pinedale Anticline. The previous analysis considered three (3) exploration and development scenarios based on the density of well pad development by aliquot section, each with its own mitigation. To protect big game crucial winter range, the FEIS delineated areas within the PAPA where oil and gas development and its associated human activities would be restricted during the winter months from November 15 through April 30.

The FEIS and ROD provided that the BLM could grant limited exceptions to this winter closure period based on conditions at the time of authorization such as presence of wintering animals or depth of snow cover. However, each exception was to be made on a case-by-case basis, annually, and usually with the condition that should winter conditions prevail, activities would cease.

Starting in winter 2002-2003, the BLM authorized Questar Exploration and Development Company (Questar) to continue gas development operations at one well pad within big game crucial winter range under the condition that Questar cooperate fully with Wyoming Game and Fish in conducting studies on the impacts of these operations consistent with the ongoing Sublette Mule Deer Study. In November 2004, the BLM approved a proposal made by Questar to expand its winter development activities and continue conducting studies on the impacts to wildlife (Questar Year-Round Drilling Proposal Environmental Assessment, November 2004).

Since then, other operators within the Pinedale Anticline have expressed interest in conducting development activities, including year-round drilling and completion within big game crucial winter range, leading to BLM's decision to supplement the PAPA FEIS and ROD.

Description of the Proposed Action

On September 16, 2005, the BLM received from Anschutz Pinedale Corporation (Anschutz), Shell Exploration and Production Company (Shell), and Ultra Resources Inc. (Ultra) representing themselves and other lease holders in the area (collectively referred to as the Operators), a proposal for year-round access to drill and develop leaseholds within the PAPA. The Operators propose to conduct year round drilling and development activities within the PAPA including areas the State deems to be big game crucial winter range. The PAPA encompasses approximately 197,345 acres of primarily Federal lands (nearly 80 percent), and State and private land. Approximately 83 percent of the mineral estate underlying the PAPA is Federally-owned. The Operators have proposed developing the oil and gas resources from between 400 and 475 pad locations with multiple wells from each pad. The bottom hole well spacing is proposed at approximately 1 well per 10 acres. The Operators propose to conduct natural gas drilling and development, including placement of ancillary facilities such as gas gathering lines and road construction on a year-round basis. Development is expected to take 15 to 18 years as proposed with an operational field life of approximately 50 years.

To develop an entire aliquot section (640 acres) at a bottom hole spacing of approximately 1 well per 10 acres, the Operators propose to place one large well pad in a central location where feasible. Where topographical conditions are limiting, the Operators propose to construct two well pads per section. The centralized well pads are estimated to range in size from 10 to 15 acres for a pad with 16 well bores and 20 to 30 acres for a pad with 64 well bores.

Whenever possible the Operators propose to reuse and expand existing pads before constructing new pads. Well pads would accommodate the simultaneous drilling of multiple directional wells and completion and production operations. Concurrent with the drilling and development activities, the Operators propose to collect data, monitor, and study and evaluate the effects of these types of activities during the winter months (November 15 through April 30) on big game, sage-grouse and other sage brush obligates and their habitats. This proposal is in accordance with BLM's multiple-use mandate and the goals and objectives of the President's National Energy Policy.

Purpose and Need

The purpose of the year-round drilling proposal is to exercise existing lease rights and expedite production of domestic oil and gas resources from the PAPA in an efficient and orderly manner and deliver those resources to the market and consumers. One of the identified needs for the EIS at this time is based on the continuing increase in the United States' demand for natural gas. Year round development will expedite delivery of trillions of cubic feet of natural gas and thousands of barrels of oil/condensate to the market. Identified benefits that may be derived from oil and gas development also include increased royalty and tax revenue to local, State and Federal governments and additional opportunities for employment and economic benefits at the local and regional level. This proposal meets the goals and objectives of the National Energy Policy.

Anticipated Issues and Management Concerns

Preliminary issues identified at this time include: (1) Paleontological, archaeological, historic and cultural resources; (2) wildlife, including big game species (mule deer, antelope, etc.); (3) Threatened and Endangered plant and animal species; (4) BLM sensitive species such as the greater sage-grouse; (5) surface and ground water resources; (6) transportation and road access; (7) vegetation (including the potential introduction of noxious weeds, short-term re-vegetation and rehabilitation of disturbed areas, and long-term establishment and stabilization of perennial vegetation through recommended reclamation measures); (8) air quality and existing scenic quality of the landscape; (9) socio-economic impact; and (10) potential for amendment to the Pinedale Resource Management Plan.

This list of preliminary issues is not final. Identification of additional issues and/or issue refinement through the public participation process is anticipated. Comments should address: (1) Issues to be considered for analysis; (2) reasonable alternatives; and (3) relevant information for consideration relating to the analysis of year-round field development in the PAPA. The EIS will consider comments and other issues/concerns raised during the scoping period in addition to those issues identified in this notice. The BLM may use the information collected during the scoping period to: (1) Develop/analyze appropriate mitigation as Conditions of Approval under which the proposed development may take place; (2) consider potential reasonable alternatives to the proposed action; or (3) both.

Consistency With Land Use Plans, NEPA, and Potential Plan Amendments

The Pinedale RMP/EIS revision is currently under development. The BLM will ensure that its actions with respect to future decisions are consistent with the applicable laws and regulations. In the event the decision on this EIS includes an amendment to the existing Pinedale RMP, the amendment will be based on the following preliminary Planning Criteria: (1) The plan amendment will recognize the existence of valid existing rights; (2) lands covered in the RMP amendment will be public lands, which include federal mineral estate with private surface; (3) the BLM will use a collaborative and multi-jurisdictional approach, where possible, to jointly determine the desired future condition of public lands; (4) the BLM will make all possible attempts to ensure that its management prescriptions and amended planning actions are as complementary as possible to other planning jurisdictions, within the boundaries described by law and policy; (5) the BLM will consider the management prescriptions on adjoining lands to minimize inconsistent management and, to the extent possible, BLM will coordinate inventories, planning, and management programs with other federal, state, tribal, and local governments and agencies; (6) management prescriptions will focus on the relative values of resources and not necessarily the combination of uses that will give the greatest economic return or economic output; (7) to the extent possible, the BLM will use current scientific information, research, new technologies and the results of resource assessments, monitoring and coordination to determine appropriate local and regional management strategies that will enhance or recover impaired ecosystems; and (8) the plan amendment will be completed in compliance with FLPMA, NEPA, and all other relevant federal laws, executive orders and management policies of the BLM.

Alternatives

The BLM has identified three preliminary alternatives including the proposed action:

• The no action alternative which would continue to allow drilling and development subject to winter restrictions.

• An alternative that would provide for year-round drilling and development activities without winter restrictions.

• An alternative that would provide for limited year-round drilling and development activities combined with application of timing restrictions to only the most critical wildlife habitats.

Site-Specific NEPA

While this EIS is intended to analyze site-specific impacts, additional site-specific NEPA analysis and/or documentation may be required before individual activities are approved based on a review of the specific conditions and any new information on environmental effects not considered in existing NEPA documentation at the time activities are proposed.

Alan L. Kesterke,
Associate State Director.

[FR Doc. 05-21170 Filed 10-20-05; 8:45 am]

BILLING CODE 4310-22-P